NATIONAL SCIENCE FOUNDATION

National Science Board; Subcommittee on S&E Indicators; Sunshine Act Meeting

Date and Time: July 3, 2003, 2 p.m.-3:30 p.m., Open Session.

Place: The National Science Foundation, 4201 Wilson Boulevard, Room 110, Arlington, VA 22230, http://www.nsf.gov/nsb.

Status: This meeting will be open to the public.

FOR FURTHER INFORMATION CONTACT: NSB Office, (703) 292-7000.

Matters to be Considered:

Thursday, July 3, 2003

Open Session (2 p.m. to 3:30 p.m.)

Discussion of S&E Indicators, 2004 Chapter 2, Higher Education in S&E.

Cathy Hines,
Executive Secretary.

[FR Doc. 03-16810 Filed 6-27-03; 4:01 pm]

BILLING CODE 7555-01-M